DEPARTMENT OF ENERGY

Federal Energy Regulatory Commission

[Docket No. EL01-92-000]

Bangor Hydro-Electric Company, Complainant, v. ISO New England Inc. Respondent; Notice of Complaint

June 20, 2001.

Take notice that on June 15, 2001, Bangor Hydro-Electric Company (Bangor Hydro) tendered for filing a complaint in which Bangor Hydro petitions the Commission to issue an order directing that ISO New England Inc. (ISO-NE or the ISO) recalculate the market clearing prices affected by the design flaw in the Electronic Dispatch software from when the software was implemented on December 9, 2000 through late March 2001.

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions or protests must be filed on or before July 5, 2001. Protests will be considered by the Commission in determining the appropriate action to be taken, but will not serve to make protestants parties to the proceeding. Any person wishing to become a party must file a motion to intervene. Copies of this filing are on file with the Commission and are available for public inspection in the Public Reference Room. This filing may also be viewed on the Internet at http://www.ferc.fed.us/online/rims.htm (call 202-208-2222) for assistance. Answers to the complaint shall also be due on or before July 5, 2001. Comments, protests and interventions may be filed electronically via the internet in lieu of paper. See, 18 CFR 385.2001(a)(1)(iii) and the instructions on the Commission's web site at http://www.ferc.fed.us/efi/doorbell.htm.

Linwood A. Watson, Jr.,
Acting Secretary.

[FR Doc. 01-15956 Filed 6-25-01; 8:45 am]

BILLING CODE 6717-01-M